DEPARTMENT OF COMMERCE

Foreign-Trade Zones Board

[Order No. 1126]

Approval for Expansion of Subzone 61E Merck, Sharp & Dohme Quimica De Puerto Rico, Inc. Plant Barceloneta, Puerto Rico

Pursuant to its authority under the Foreign-Trade Zones Act of June 18, 1934, as amended (19 U.S.C. 81a-81u), the Foreign-Trade Zones Board (the Board) adopts the following Order:

Whereas, the Puerto Rico Exports Development Corporation, grantee of FTZ 61, has requested authority on behalf of Merck, Sharp & Dohme Quimica de Puerto Rico, Inc. (Merck), to add capacity and to expand the scope of manufacturing authority under zone procedures within Subzone 61E at the Merck plant in Barceloneta, Puerto Rico (FTZ Docket 50-2000, filed 8/10/00);

Whereas, notice inviting public comment has been given in the Federal Register (65 FR 51293, 8/23/00);

Whereas, pursuant to 15 CFR 400.32(b)(1), the Commerce Department's Assistant Secretary for Import Administration has the authority to act for the Board in making such decisions on manufacturing authority when the proposed activity is the same, in terms of products involved, to activity recently approved by the Board and similar in circumstances (15 CFR 400.32(b)(1)(i)); and,

Whereas, the FTZ staff has reviewed the proposal, taking into account the criteria of 15 CFR 400.31, and the Executive Secretary has recommended approval;

Now, Therefore, the Assistant Secretary for Import Administration, acting for the Board pursuant to 15 CFR 400.32(b)(1), concurs in the recommendation and hereby approves the request subject to the FTZ Act and the Board's regulations, including 15 CFR 400.28.

Signed at Washington, DC, this 9th day of November 2000.
Troy H. Cribb,
Assistant Secretary of Commerce for Import Administration, Alternate Chairman, Foreign-Trade Zones Board.
Attest:
Dennis Puccinelli,
Executive Secretary.

[FR Doc. 00-29634 Filed 11-17-00; 8:45 am]

BILLING CODE 3510-DS-P